DEPARTMENT OF THE INTERIOR

National Park Service

Notice of Inventory Completion: Alaska State Office of History and Archaeology, Anchorage, AK, and Alutiiq Museum and Archaeological Repository, Kodiak, AK

AGENCY: National Park Service, Interior.

ACTION: Notice.

Notice is here given in accordance with the Native American Graves Protection and Repatriation Act (NAGPRA), 25 U.S.C. 3003, of the completion of an inventory of human remains in the control of the Alaska State Office of History and Archaeology, Anchorage, AK, and in the possession of the Alutiiq Museum and Archaeological Repository, Kodiak, AK. The human remains were removed from the Aleut Village North archeological site (49-AFG-00004), Afognak Island, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made on behalf of the Alaska State Office of History and Archaeology by Alutiiq Museum and Archaeological Repository professional staff in consultation with representatives of the Afognak Native Corporation; Native Village of Afognak; Koniag, Inc.; Litnik, Inc.; and Native Village of Port Lions.

In June of 2008, human remains representing a minimum of one individual were removed from the beach near the Aleut Village North archeological site (49-AFG-00004), Afognak Island, AK, by Robert Lachowsky. Mr. Lachowsky turned in the human remains to the Alutiiq Museum and Archaeological Repository. The Alutiiq Museum contacted the Alaska State Troopers, who sent photographs to the State Office of History and Archaeology. A professional archeologist and forensic consultant determined the remains to be a prehistoric person of Eskimo ancestry. The Alaska State Troopers released the human remains to the Alutiiq Museum for disposition in July 2008. No known individual was identified. No associated funerary objects are present.

The Aleut Village North archeological site is a prehistoric and historic settlement north of Afognak Village on the southeast coast of Afognak Island. The site has a well-preserved midden that dates to the Kachemak and Koniag Traditions, as well as historic deposits of material. The human remains were likely deposited on the beach from the actively eroding midden. Based on the examination by an Alaskan State forensic archeologist, the human remains are believed to be prehistoric. Archeological data indicate that the ancestors of the Kodiak Alutiiq people have inhabited the Kodiak region for over 7,500 years, and that they are culturally and biologically related to the Yup'ik Eskimo people of southern Alaska. As such, the human remains are most closely related to the contemporary Kodiak Alutiiq people. Specifically, the human remains are from an area of the Kodiak archipelago traditionally used by members of the Afognak Native Corporation; Native Village of Afognak; Koniag, Inc.; Litnik, Inc.; and Native Village of Port Lions.

Officials of the Alaska State Office of History and Archaeology and Alutiiq Museum and Archaeological Repository have determined that, pursuant to 25 U.S.C. 3001 (9-10), the human remains described above represent the physical remains of one individual of Native American ancestry. Officials of the Alaska State Office of History and Archaeology and the Alutiiq Museum and Archaeological Repository also have determined that, pursuant to 25 U.S.C. 3001 (2), there is a relationship of shared group identity that can be reasonably traced between the Native American human remains and the Afognak Native Corporation; Native Village of Afognak; Koniag, Inc.; Litnik, Inc.; and Native Village of Port Lions.

Representatives of any other Indian tribe that believes itself to be culturally affiliated with the human remains should contact Dr. Sven Haakanson, Jr., Executive Director, Alutiiq Museum and Archaeological Repository, 215 Mission Rd., Suite 101, Kodiak, AK 99615, telephone (907) 486-7004, before January 29, 2009. Repatriation of the human remains to the Afognak Native Corporation; Native Village of Afognak; Koniag, Inc.; Litnik, Inc.; and Native Village of Port Lions may proceed after that date if no additional claimants come forward.

The Alutiiq Museum and Archaeological Repository is responsible for notifying the Afognak Native Corporation; Native Village of Afognak; Koniag, Inc.; Litnik, Inc.; and Native Village of Port Lions that this notice has been published.

Dated: November 18, 2008
Sherry Hutt,
Manager, National NAGPRA Program.

[FR Doc. E8-30884 Filed 12-29-08; 8:45 am]

BILLING CODE 4312-50-S